DEPARTMENT OF STATE

[Public Notice 8684]

30-Day Notice of Proposed Information Collection: Form—DS-1950, Department of State Application for Employment

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to May 8, 2014.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Diana M. Ossa, Bureau of Human Resources, Recruitment Division, Student Programs, U.S. Department of State, Washington, DC 20522, who may be reached on 202-663-3575 or by email at ossadm@state.gov.

SUPPLEMENTARY INFORMATION: • Title of Information Collection: Department of State Application for Employment OMB Control Number: 1405-0139.

• Type of Request: Extension of a currently approved collection.

• Originating Office: Bureau of Human Resources, Office of Recruitment, Examination, Employment (HR/REE).

• Form Number: DS-1950.

• Respondents: U.S. Citizens seeking entry into certain Department of State Foreign Service positions.

• Estimated Number of Respondents: 60.

• Estimated Number of Responses: 60.

• Average Time per Response: 30 minutes.

• Total Estimated Burden Time: 30 hours.

• Frequency: On Occasion.

• Obligation To Respond: Required to Obtain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection: The DS-1950 has been the form used by individuals to apply for certain excepted jobs at the Department of State such as Foreign Service specialist positions. We wish to continue to use this form to clarify interpretation of applicant responses and how applicants become aware of our program opportunities. Section 1104 of title 5, United States Code, authorizes OPM to delegate the authority to collect necessary employment information to other agencies, including the Department of State. With respect to Foreign Service Specialist applicants, authority is given under 22 U.S.C. Section 3926 and 3941.

Methodology: The DS-1950 form will be used by applicants for certain service jobs at the Department of State, such as Foreign Service Specialist and Generalist positions. We are in the process of transitioning the final programs onto the USAJobs.gov platform and expect no more than 60 applicants to utilize the DS-1950 this year. Although we are encouraging all programs to use USAJobs.gov, we wish to extend the form to ensure we are not in violation under the Paper Reduction Act (PRA) during the transitioning period. Data, which is extracted from the form, is necessary to determine qualifications, salary, and selections, in accordance with Federal policies.

Dated: March 25, 2014.
William E. Schaal, Jr.,
Executive Director, HR/EX, Department of State.

[FR Doc. 2014-07859 Filed 4-7-14; 8:45 am]

BILLING CODE 4710-05-P